DEPARTMENT OF VETERANS AFFAIRS

Disciplinary Appeals Board Panel

AGENCY: Department of Veterans Affairs.

ACTION: Notice with request for comments.

SUMMARY: Section 203 of the Department of Veterans Affairs Health Care Personnel Act of 1991 (Pub. L. 102-40), dated May 7, 1991, revised the disciplinary grievance and appeal procedures for employees appointed under 38 U.S.C. 7401(1). It also required the periodic designation of employees of the Department who are qualified to serve on Disciplinary Appeals Boards. These employees constitute the Disciplinary Appeals Board Panel from which Board members in a case are appointed. This notice announces that the roster of employees on the Panel is available for review and comment. Employees, employee organizations, and other interested parties shall be provided, without charge, a list of the names of employees on the Panel upon request and may submit comments concerning the suitability for service on the Panel of any employee whose name is on the list.

DATES: Names that appear on the Panel may be selected to serve on a Board or as a grievance examiner after January 11, 2012.

ADDRESSES: Requests for the list of names of employees on the Panel and written comments may be directed to: Secretary of Veterans Affairs (051), Department of Veterans Affairs, 810 Vermont Avenue NW., Mailstop 051, Washington, DC 20420. Requests and comments may also be faxed to (202) 772-3315.

FOR FURTHER INFORMATION CONTACT: Larry Ables, Employee Relations and Performance Management Service, Office of Human Resources Management, Department of Veterans Affairs, 810 Vermont Avenue NW., Mailstop 051, Washington, DC 20420. Mr. Ables may be reached at (202) 772-1896.

SUPPLEMENTARY INFORMATION: Pub. L. 102-40 requires that the availability of the roster be posted in the Federal Register periodically, and not less than annually.

Dated: December 1, 2011.
John R. Gingrich,
Chief of Staff, Department of Veterans Affairs.

[FR Doc. 2011-31772 Filed 12-9-11; 8:45 am]

BILLING CODE 8320-01-P